INTERNATIONAL TRADE COMMISSION

[Investigation No. 337-TA-1194]

Certain High-Density Fiber Optic Equipment and Components Thereof; Commission Determination Not To Review an Initial Determination Granting a Motion To Amend the Complaint and Notice of Investigation

AGENCY: U.S. International Trade Commission.

ACTION: Notice.

SUMMARY: Notice is hereby given that the U.S. International Trade Commission has determined not to review an initial determination (“ID”) (Order No. 9) of the presiding administrative law judge (“ALJ”), granting complainant's unopposed motion to amend the complaint and notice of investigation (“NOI”) to add proposed respondent AFL Telecommunications LLC (“AFL Telecommunications”) and to terminate respondent AFL Telecommunications Holdings LLC (“AFL Holdings”).

FOR FURTHER INFORMATION CONTACT: Cathy Chen, Office of the General Counsel, U.S. International Trade Commission, 500 E Street SW, Washington, DC 20436, telephone 202-205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on March 24, 2020, based on a complaint filed on behalf of Corning Optical Communications LLC (“Corning”) of Charlotte, North Carolina. 85 FR 16653 (Mar. 24, 2020). The complaint, as supplemented, alleges violations of section 337 of the Tariff Act of 1930, as amended, 19 U.S.C. 1337, in the importation into the United States, the sale for importation, or the sale within the United States after importation of certain high-density fiber optic equipment and components thereof by reason of infringement of certain claims of U.S. Patent Nos.: 9,020,320; 8,712,206; 10,120,153; 10,094,996; and 10,444,456. Id. The complaint further alleges that a domestic industry exists. Id. The Commission's notice of investigation named thirteen respondents including AFL Holdings of Duncan, South Carolina. Id. The notice of investigation also names the Office of Unfair Import Investigations as a party. Id. at 16654.

On June 1, 2020, Corning filed a motion to amend the complaint and notice of investigation to add proposed respondent AFL Telecommunications and to terminate respondent AFL Holdings. The motion notes that AFL Telecommunications is a related corporate entity of AFL Holdings, and that termination of AFL Holdings is appropriate because AFL Telecommunications is the operating entity engaged in importation and sales potentially relevant to this investigation. Order No. 9 at 1-2 (June 19, 2020). No response was filed.

On June 19, 2020, the ALJ issued the subject ID granting the unopposed motion to amend. Id. at 3. The ID notes that the motion complies with Commission Rules 210.14 and 210.21, 19 CFR 210.14 and 210.21. See id. at 1-3. The ID concludes that “good cause exists to amend the amended complaint and notice of investigation to conform to the correct information.” Id. at 3. No petitions for review were filed.

The Commission has determined not to review the subject ID. The complaint and notice of investigation have been amended to add respondent AFL Telecommunications and to terminate respondent AFL Holdings.

While temporary remote operating procedures are in place in response to COVID-19, the Office of the Secretary is not able to serve parties that have not retained counsel or otherwise provided a point of contact for electronic service. Accordingly, pursuant to Commission Rules 201.16(a) and 210.7(a)(1) (19 CFR 201.16(a), 210.7(a)(1)), the Commission orders that the Complainant complete service for any party without a method of electronic service noted on the attached Certificate of Service and shall file proof of service on the Electronic Document Information System (EDIS).

The Commission vote for this determination took place on July 20, 2020.

The authority for the Commission's determination is contained in section 337 of the Tariff Act of 1930, as amended, 19 U.S.C. 1337, and in Part 210 of the Commission's Rules of Practice and Procedure, 19 CFR part 210.

By order of the Commission.
Issued: July 20, 2020.
Lisa Barton,
Secretary to the Commission.

[FR Doc. 2020-16029 Filed 7-23-20; 8:45 am]

BILLING CODE 7020-02-P